LEGAL SERVICES CORPORATION

Sunshine Act Meetings

TIME AND DATE: The Operations and Regulations Committee (Committee) of the Legal Services Corporation (LSC) Board of Directors will meet virtually on Monday, March 13, 2023. The meeting will commence at 1:30 p.m. EDT and will continue until the conclusion of the Committee's agenda.

PLACE: Public notice of virtual meetings.

LSC will conduct the March 13, 2023 meeting via Zoom. To join the meeting, please use this link: https://lsc-gov.zoom.us/j/82286565349?pwd=V1JJenBZbjlBbkxKSzdDY1ExbHhNZz09&from=addon.

Meeting ID: 822 8656 5349

Passcode: 960150

STATUS: Open.

MATTERS TO BE CONSIDERED:

1. Approval of agenda

2. Approval of minutes of the Committee's Open Session meeting on January 13, 2023

3. Briefing on proposed rulemaking timeline

4. Public comment

5. Consider and act on other business

6. Consider and act on adjournment of meeting.

CONTACT PERSON FOR MORE INFORMATION: Cheryl DuHart, Administrative Coordinator, Office of Legal Affairs, at (202) 295-1621. Questions may also be sent by electronic mail to duhartc@lsc.gov.

Authority: 42 U.S.C. 2996g(e).

Dated: March 7, 2023.
Stefanie Davis,
Senior Associate General Counsel for Regulations.

[FR Doc. 2023-04916 Filed 3-7-23; 11:15 am]

BILLING CODE 7050-01-P